ENVIRONMENTAL PROTECTION AGENCY

[FRL-8162-1]

Science Advisory Board Staff Office; Environmental Economics Advisory Committee; Notification of a Public Advisory Committee Meeting (Teleconference)

AGENCY: Environmental Protection Agency (EPA).

ACTION: Notice.

SUMMARY: The Environmental Protection Agency (EPA or Agency), Science Advisory Board (SAB) Staff Office announces a public teleconference for the SAB Environmental Economics Advisory Committee (EEAC) to discuss its advisory activities.

DATES: The teleconference will take place on May 19, 2006 from 1 p.m. to 3 p.m. (eastern time).

FOR FURTHER INFORMATION CONTACT: Any member of the public who wishes to obtain the teleconference call-in number and access code; would like to submit written or brief (less than five minutes) oral statements; or wants further information concerning this teleconference, must contact Dr. Holly Stallworth, Designated Federal Officer (DFO), EPA Science Advisory Board (1400F), U.S. Environmental Protection Agency, 1200 Pennsylvania Avenue, NW., Washington, DC 20460; via telephone/voice mail: (202) 343-9867; fax: (202) 233-0643; or e-mail at: stallworth.holly@epa.gov.

SUPPLEMENTARY INFORMATION: Background: The EEAC, a committee of the EPA Science Advisory Board, is a Federal advisory committee chartered under the Federal Advisory Committee Act (FACA), as amended, 5 U.S.C., App. The EEAC is charged with providing advice, information and recommendations through the chartered SAB to the Agency on the economic issues associated with various EPA programs.

The EEAC teleconference will provide an opportunity for members to discuss forthcoming advisory activities. The meeting agenda will cover two topics: (a) EEAC's advisory activities for EPA's National Center for Environmental Economics (NCEE)'s work on valuing the reduction of mortality risk and other projects; and (b) the possibility of EEAC providing unsolicited advice to EPA concerning the impact of the TRI Burden Reduction rule (see 70 FR 57871, October 4, 2005 and 70 FR 57822, October 4, 2005) on the data needs of the scientific community. The meeting agenda will be posted on the SAB Web site at: http://www.epa.gov/sab prior to the meeting.

Procedures for Providing Public Input: Interested members of the public may submit relevant written or oral information for the SAB Panel to consider during the advisory process. Oral Statements: In general, individuals or groups requesting an oral presentation at a public teleconference will be limited to three minutes per speaker with no more than a total of fifteen minutes for all speakers. Interested parties should contact the DFO, contact information provided above, in writing via e-mail at least seven days before the teleconference in order to be placed on the public speaker list. Written Statements: Written statements should be received in the SAB Staff Office at least seven days before the meeting so that the information may be made available to the Panel for their consideration. Written statements should be supplied to the DFO in the following formats: one hard copy with original signature and one electronic copy via e-mail (acceptable file format: Adobe Acrobat, WordPerfect, Word, or Rich Text files in IBM-PC/Windows 98/2000/XP format).

Accessibility: For information on access or services for individuals with disabilities, please contact the DFO, contact information provided above. To request accommodation of a disability please contact the DFO, preferably at least ten business days prior to the meeting, to give EPA as much time as possible to process your request.

Dated: April 20, 2006.
Anthony F. Maciorowski,
Associate Director for Science, EPA Science Advisory Board Staff Office.

[FR Doc. E6-6255 Filed 4-25-06; 8:45 am]

BILLING CODE 6560-50-P